DEPARTMENT OF ENERGY

Federal Energy Regulatory Commission

[Docket No. RP00-579-000]

Iroquois Gas Transmission System, L.P.; Notice of Filing of Deferred Asset Surcharge Report

October 3, 2000.

Take notice that on September 29, 2000, Iroquois Gas Transmission System, L.P. (Iroquois) tendered for filing its Deferred Asset Surcharge report covering the period commencing November 1, 2000.

Iroquois states that this report is filed pursuant to part 154 of the Commission's regulations and section 12.3 of the General Terms and Conditions of its tariff. Iroquois further states that the report reflects no change in the Deferred Asset Surcharge for the period commencing November 1, 2000.

Iroquois states that copies of its filing were served on all jurisdictional customers and interested state commissions.

Any person desiring to be heard or to protest said filing should file a motion to intervene or a protest with the Federal Energy Regulatory Commission, 888 First Street NE., Washington, DC 20426, in accordance with Sections 385.214 or 385.211 of the Commission's Rules and Regulations. All such motions or protests must be filed on or before October 11, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-25839 Filed 10-6-00; 8:45 am]

BILLING CODE 6717-01-M